DEPARTMENT OF TRANSPORTATION

Federal Aviation Administration

14 CFR Part 39

[Docket No. FAA-2005-20803; Directorate Identifier 2005-CE-19-AD; Amendment 39-14433; AD 2005-26-12]

RIN 2120-AA64

Airworthiness Directives; BURKHARDT GROB LUFT-UND RAUMFAHRT GmbH & CO KG Models G103 TWIN ASTIR, G103 TWIN II, G103A TWIN II ACRO, G103C TWIN III ACRO, and G 103 C Twin III SL Sailplanes

AGENCY: Federal Aviation Administration (FAA), DOT.

ACTION: Final rule.

SUMMARY: The FAA adopts a new airworthiness directive (AD) to supersede AD 2004-08-13, which applies to certain BURKHARDT GROB LUFT-UND RAUMFAHRT GmbH & CO KG (Burkhardt Grob) Models G103 TWIN ASTIR, G103 TWIN II, G103 TWIN III ACRO, and G103 C Twin III SL sailplanes. AD 2004-08-13 currently requires you to replace the center of gravity (CG) release hook attachment brackets with brackets of improved design. This AD results from mandatory continuing airworthiness information (MCAI) issued by the airworthiness authority for Germany. This AD retains all the actions required in AD 2004-08-13 and adds Model G103A TWIN II ACRO sailplanes to the applicability. We are issuing this AD to prevent abnormal or uncontrolled sailplane release due to cracked CG release hook attachment brackets. This condition could result in reduced or loss of sailplane control.

DATES: This AD becomes effective on February 6, 2006.

On June 4, 2004 (69 FR 21402, April 21, 2004), the Director of the Federal Register approved the incorporation by reference of Grob Service Bulletin No. MSB315-62, dated January 21, 2002, and Grob Service Bulletin No. MSB869-22, dated January 22, 2002.

As of February 6, 2006, the Director of the Federal Register approved the incorporation by reference of Grob Service Bulletin No. MSB315-62/2, dated March 9, 2005.

ADDRESSES: To get the service information identified in this AD, contact BURKHARDT GROB LUFT-UND RAUMFAHRT GmbH & CO KG, Letenbachstrasse 9, D-86874 Tussenhausen-Mattsies, Germany; telephone: 011 49 8268 998139; facsimile: 011 49 8268 998200.

To view the AD docket, go to the Docket Management Facility, U.S. Department of Transportation, 400 Seventh Street, SW., Nassif Building, Room PL-401, Washington, DC 20590-001 or on the Internet at http://dms.dot.gov. The docket number is FAA-2005-20803; Directorate Identifier 2005-CE-19-AD.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

What is the background of the subject matter? Reports of cracks found in the center of gravity (CG) release hook attachment brackets caused us to issue AD 2004-08-13, Amendment 39-13582 (69 FR 21402, April 21, 2004). AD 2004-08-13 applies to Burkhardt Grob Models G103 TWIN ASTIR, G103 TWIN II, G103 TWIN III ACRO, and G103 C Twin III SL sailplanes. That AD currently requires you to replace the CG release hook attachment brackets with brackets of improved design.

What has happened since AD 2004-08-13 to initiate this AD? The Luftfahrt-Bundesamt (LBA), which is the airworthiness authority for Germany, notified FAA of the need to change AD 2004-08-13. The LBA reports that the actions required in AD 2004-08-13 should also apply to Model G103A TWIN II ACRO sailplanes.

What is the potential impact if FAA took no action? If not prevented, a cracked CG release hook attachment bracket could lead to abnormal or uncontrolled sailplane release. This condition could result in reduced or loss of sailplane control.

Has FAA taken any action to this point? We issued a proposal to amend part 39 of the Federal Aviation Regulations (14 CFR part 39) to include an AD that would apply to all Burkhardt Grob Models G103 TWIN ASTIR, G103 TWIN II, G103A TWIN II ACRO, G103C TWIN III ACRO, and G 103 C Twin III SL sailplanes. This proposal was published in the Federal Register as a notice of proposed rulemaking (NPRM) on October 5, 2005 (70 FR 58100). The NPRM proposed to supersede AD 2004-08-13 with a new AD. The proposed AD would retain the actions exactly as required in AD 2004-08-13 for Models G103 TWIN ASTIR, G103 TWIN II, G103C TWIN III ACRO, and G 103 C Twin III SL sailplanes, and would add Model G103A TWIN II ACRO sailplanes to the applicability.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 136 sailplanes in the U.S. registry.

What is the cost impact of this AD on owners/operators of the affected sailplanes? We estimate the following costs to do the replacement:

Labor cost | Parts cost | Total cost per sailplane | Total cost on U.S. operators
2 work hours × $65 per hour = $130 | $67 | $197 | $197 × 136 = $26,792.

What is the difference between the cost impact of this AD and the cost impact of AD 2004-08-13? The only difference between the cost impact of AD 2004-08-13 and this AD is the addition of Model G103A TWIN II ACRO sailplanes to the applicability. There is no difference in the cost to do the required actions.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-20803; Directorate Identifier 2005-CE-19-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2004-08-13, Amendment 39-13582 (69 FR 21402, April 21, 2004), and by adding a new AD to read as follows:

2005-26-12 BURKHARDT GROB LUFT-UND RAUMFAHRT GmbH & CO KG: Amendment 39-14433; Docket No. FAA-2005-20803; Directorate Identifier 2005-CE-19-AD; supersedes AD 2004-08-13, Amendment 39-13582.

When Does This AD Become Effective?

(a) This AD becomes effective on February 6, 2006.

What Other ADs Are Affected by This Action?

(b) This AD supersedes AD 2004-08-13, Amendment 39-13582.

What Sailplanes Are Affected by This AD?

(c) This AD affects the following model sailplanes, all serial numbers, that are certificated in any category:

Models
(1) G103 TWIN ASTIR
(2) G103 TWIN II
(3) G103A TWIN II ACRO
(3) G103C TWIN III ACRO
(4) G 103 C Twin III SL

What Is the Unsafe Condition Presented in This AD?

(d) This AD is the result of mandatory continuing airworthiness information (MCAI) issued by the airworthiness authority for Germany. The actions of this AD are intended to prevent abnormal or uncontrolled sailplane release due to cracked center of gravity (CG) release hook attachment brackets. This condition could result in reduced or loss of sailplane control.

What Must I Do To Address This Problem?

(e) To address this problem, you must do the following:

Actions | Compliance | Procedures
(1) Replace the center of gravity (CG) release hook attachment brackets with improved design brackets as follows: (i) For Models G103 TWIN ASTIR, G103 TWIN II, G103A TWIN II ACRO, and G103C TWIN III ACRO sailplanes: install new part number (P/N) 103B-2360.01/1 or 103B-2360.01/2 and P/N 103B-2360.02/1 or 103B-2360-02/2 (ii) For Models G103 TWIN ASTIR sailplanes: install an additional plate, P/N 103-2360.02 below each attachment bracket (iii) For Models G103 C TWIN III SL sailplanes: install new P/N 103B-2360.01/2 and P/N 103B-2360.02/2 | For sailplanes previously affected by AD 2004-08-13: Within the next 25 hours time-in-service (TIS) after June 4, 2004 (the effective date of AD 2004-08-13), unless already done. For sailplanes not previously affected by AD 2004-08-13: Within the next 25 hours time-in-service (TIS) after February 6, 2006 (the effective date of this AD), unless already done | For Models G103 TWIN ASTIR, G103 TWIN II, G103A TWIN II ACRO, and G103C TWIN III ACRO sailplanes: Follow Grob Service Bulletin No. MSB315-62, dated January 21, 2002, or Grob Service Bulletin No. MSB315-62/2, dated March 9, 2005. For Model G103 C Twin III SL sailplanes: Follow Grob Service Bulletin No. MSB869-22, dated January 22, 2002.
(2) Do not install any CG release hook attachment bracket that is not a part number referenced in paragraphs (e)(1)(i) and (e)(1)(iii) of this AD, as applicable | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Is There Other Information That Relates to This Subject?

(g) German AD No. 2002-066, effective date: March 21, 2002, and German AD No. 2002-067, effective date: March 21, 2002, also addresses the subject of this AD.

Does This AD Incorporate Any Material by Reference?

(h) You must do the actions required by this AD following the instructions in Grob Service Bulletin No. MSB315-62, dated January 21, 2002, Grob Service Bulletin No. MSB315-62/2, dated March 9, 2005, and Grob Service Bulletin No. MSB869-22, dated January 22, 2002, as applicable.

(1) On June 4, 2004 (69 FR 21402, April 21, 2004), and in accordance with 5 U.S.C. 552(a) and 1 CFR part 51, the Director of the Federal Register approved the incorporation by reference of Grob Service Bulletin No. MSB315-62, dated January 21, 2002, and Grob Service Bulletin No. MSB869-22, dated January 22, 2002.

(2) As of February 6, 2006, and in accordance with 5 U.S.C. 552(a) and 1 CFR part 51, the Director of the Federal Register approved the incorporation by reference of Grob Service Bulletin No. MSB315-62/2, dated March 9, 2005.

(3) To get a copy of this service information, contact BURKHARDT GROB LUFT-UND RAUMFAHRT GmbH & CO KG, Letenbachstrasse 9, D-86874 Tussenhausen-Mattsies, Germany; telephone: 011 49 8268 998139; facsimile: 011 49 8268 998200. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-20803; Directorate Identifier 2005-CE-19-AD.

Issued in Kansas City, Missouri, on December 16, 2005.
David R. Showers,
Acting Manager, Small Airplane Directorate, Aircraft Certification Service.

[FR Doc. 05-24480 Filed 12-27-05; 8:45 am]

BILLING CODE 4910-13-P